DEPARTMENT OF TRANSPORTATION

National Highway Traffic Safety Administration

[Docket No. NHTSA-2012-0005; Notice 2]

Ford Motor Company, Denial of Petition for Decision of Inconsequential Noncompliance

AGENCY: National Highway Traffic Safety Administration (NHTSA), Department of Transportation (DOT).

ACTION: Denial of Petition.

SUMMARY: Ford Motor Company (Ford) has determined that certain model year 2011 Ford E-150, E-250, E-350 and E-450 motor vehicles manufactured between May 12, 2011 and May 26, 2011, do not fully comply with paragraph S5.1.1 of Federal Motor Vehicle Safety Standard (FMVSS) No. 205, Glazing Materials. Ford has filed an appropriate report pursuant to 49 CFR Part 573, Defect and Noncompliance Responsibility and Reports, dated August 22, 2011.

Pursuant to 49 U.S.C. 30118(d) and 30120(h) (see implementing rule at 49 CFR part 556), Ford has petitioned for an exemption from the notification and remedy requirements of 49 U.S.C. Chapter 301 on the basis that this noncompliance is inconsequential to motor vehicle safety.

NHTSA published a notice of receipt of the petition, with a 30-day public comment period, on February 2, 2012, in the Federal Register 77 FR 5301. In response to the petition, NHTSA did not receive any comments.

ADDRESSES: To view the petition and all supporting documents, log onto the Federal Docket Management System (FDMS) Web site at: http://www.regulations.gov/. Then follow the online search instructions to locate docket number “NHTSA-2012-0005.”

FOR FURTHER INFORMATION CONTACT: For further information on this decision contact Mr. Luis Figueroa, Office of Vehicle Safety Compliance, the National Highway Traffic Safety Administration (NHTSA), telephone (202) 366-5298, facsimile (202) 366-7002.

SUPPLEMENTARY INFORMATION: Vehicles Involved: Affected are approximately 4,532 model year 2011 Ford E-150, E-250, E-350 and E-450 trucks manufactured between May 12, 2011, and May 25, 2011, at Ford's Ohio assembly plant.

Summary of Ford's Analysis and Arguments: Ford described the noncompliance as the formation of air bubbles in the windshields when subjected to high temperatures specified in paragraph S5.1 of FMVSS No. 205.

Paragraph S5.1 of FMVSS No. 205 requires in pertinent part:

S5.1 Glazing materials for use in motor vehicles must conform to ANSI/SAE Z26.1-1996 (incorporated by reference, see § 571.5) unless this standard provides otherwise . . .

S5.1.1 Multipurpose passenger vehicles. Except as otherwise specifically provided by this standard, glazing for use in multipurpose passenger vehicles shall conform to the requirements for glazing for use in trucks as specified in ANSI/SAE Z26.1-1996 (incorporated by reference, see § 571.5).

Ford expressed its belief that only approximately 100 of the 4,532 subject vehicles may actually develop air bubbles in their windshields.

Ford argues that paragraph S5.1.1 of FMVSS No. 205 specifies meeting the requirements of ANSI Z26.1-1996 Section 5.4 Boil, Test 4. The affected paragraph 5.4.3 “Interpretation of Results” states “The glass itself may crack in this test, but no bubbles or other defects shall develop more than 13 mm (½ in) from the outer edge of the specimen or from any cracks that may develop.” Although the affected windshields may develop air bubbles, Ford believes this condition does not present a risk to motor vehicle safety for the reasons described below.

The initiation of the air bubbles will most likely occur when the vehicle is parked in the sun with ambient temperatures greater than 80° F, and they occur very early in the life of the vehicle. This was the case for the initial vehicles that exhibited the condition while still at the assembly plant, that was experiencing high seasonal temperatures at the time. Of the 41 field reports of the condition that had occurred as of August 16, 2011, only one occurred subsequent to delivery to a customer. All other field reports were found during pre-delivery vehicle preparation.

The appearance of the air bubbles is a slow process, and there are no reports of air bubbles affecting the entire windshield. If bubbles do occur in the driver vision zone, the vision zone is initially only partially affected. This condition would be noticed by the customer prior to a significant spread of the air bubbles, and the customer would seek repair under Ford's normal 3/36 warranty.

Ford is not aware of accidents or injuries attributed to this condition.

In summation, Ford believes that the described noncompliance of its vehicles to meet the requirements of FMVSS No. 205 is inconsequential to motor vehicle safety, and that its petition, to exempt from providing recall notification of noncompliance as required by 49 U.S.C. 30118 and remedying the recall noncompliance as required by 49 U.S.C. 30120 should be granted.

Background: FMVSS No. 205 specifies labeling and performance requirements for automotive glazing. FMVSS No. 205 incorporates by reference ANSI Z26.1 (1996). The purpose of Test No. 4 Boil Test (Section 5.4 of ANSI Z26.1 (1996)) is to determine if the glazing material will withstand exposure to tropical temperatures over an extended period of time.

NHTSA's Analysis: Ford believes this condition does not present a risk to motor vehicle safety because the initiation of the air bubbles will most likely occur when the vehicle is parked in the sun with ambient temperatures greater than 80° F. However, data from the National Oceanic and Atmospheric Administration (NOAA) shows that the condition that Ford describes “sun with ambient temperatures greater than 80° F” is a very likely event. Data from the NOAA for the USA shows that in early spring (around the month of March 2011) the southern states are already experiencing mean maximum temperatures in excess of 80° F. The same data shows that in July most of the nation is experiencing mean maximum temperatures over 80° F with some states experiencing mean maximum temperatures of over 100° F.

More importantly, the agency believes that the true measure of inconsequentiality is whether there is a safety effect of the noncompliance on the operational safety of the vehicle. In this case if the noncompliance (a bubble or bubbles in the windshield) were to manifest, this condition causes delamination of the glazing material which could weaken the structural integrity around the windshield edge and pose a safety risk to the occupants. Bubbles also could affect the vision of the driver and thus would have a detrimental effect on the operational safety of the vehicle. The agency also notes that the low number of vehicles involved in this case does not lessen the safety issue that the non-compliance creates. The degraded visibility created by the bubbles in the windshield still creates a safety risk even if it only occurs in a few vehicles.

The fact that customers might notice the non-compliance and seek repairs from Ford on their own does not mean that the safety risk posed by the bubbles in the windshield has been completely mitigated.

NHTSA Decision: In consideration of the foregoing, NHTSA has decided that Ford has not met its burden of persuasion that the FMVSS No. 205 noncompliances identified in Ford's Noncompliance Information Report. Accordingly, Ford's petition is hereby denied, and the Ford must notify owners, purchasers and dealers pursuant to 49 U.S.C. 30118 and provide a remedy in accordance with 49 U.S.C. 30120.

Authority: (49 U.S.C. 30118, 30120: delegations of authority at CFR 1.95 and 501.8).

Dated: November 21, 2013.
Nancy Lummen Lewis,
Associate Administrator for Enforcement.

[FR Doc. 2013-28458 Filed 11-26-13; 8:45 am]

BILLING CODE 4910-59-P